ENVIRONMENTAL PROTECTION AGENCY

[EPA-HQ-OECA-2012-0669; FRL-9532-3]

Information Collection Request Submitted to OMB for Review and Approval; Comment Request; NESHAP for Oil and Natural Gas Production (Renewal)

AGENCY: Environmental Protection Agency (EPA).

ACTION: Notice.

SUMMARY: The Environmental Protection Agency has submitted an information collection request (ICR), “NESHAP for Oil and Natural Gas Production (40 CFR Part 63, Subpart HH) (Renewal)” (EPA ICR No. 1788.10, OMB Control No. 2060-0417) to the Office of Management and Budget (OMB) for review and approval in accordance with the Paperwork Reduction Act (44 U.S.C. 3501 et seq.). This is a proposed extension of the ICR, which is currently approved through June 30, 2013. Public comments were previously requested via the Federal Register (77 FR 63813) on October 17, 2012, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 19, 2013.

ADDRESSES: Submit your comments, referencing Docket ID Number EPA-HQ-OECA-2012-0669, to: (1) EPA online using www.regulations.gov (our preferred method), by email to: docket.oeca@epa.gov, or by mail to: EPA Docket Center, Environmental Protection Agency, Mail Code 28221T, 1200 Pennsylvania Ave., NW., Washington, DC 20460, and (2) OMB via email to oira_submission@omb.epa.gov. Address comments to OMB Desk Officer for EPA.

EPA's policy is that all comments received will be included in the public docket without change, including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave., NW., Washington, DC 20460; telephone number: (202) 564-4113; fax number: (202) 564-0050; email address: williams.learia@epa.gov.

SUPPLEMENTARY INFORMATION: Supporting documents, which explain in detail the information that the EPA will be collecting, are available in the public docket for this ICR. The docket can be viewed online at www.regulations.gov or in person at the EPA Docket Center, EPA West, Room 3334, 1301 Constitution Ave., NW., Washington, DC. The telephone number for the Docket Center is 202-566-1744. For additional information about EPA's public docket, visit http://www.epa.gov/dockets.

Abstract: The affected entities are subject to the General Provisions of the NESHAP at 40 CFR part 63, subpart A, and any changes, or additions to the Provisions specified at 40 CFR part 63, subpart HH. Owners or operators of the affected facilities must submit initial notification, performance tests, and periodic reports and results. Owners or operators are also required to maintain records of the occurrence and duration of any startup, shutdown, or malfunction in the operation of an affected facility, or any period during which the monitoring system is inoperative. Reports are required semiannually at a minimum.

Form Numbers: None.

Respondents/affected entities: Oil and natural gas production facilities.

Respondent's obligation to respond: mandatory (40 CFR part 63, subpart HH).

Estimated number of respondents: 3,735 (total).

Frequency of response: Initially, annually, and semiannually.

Total estimated burden: 46,642 hours (per year). “Burden” is defined at 5 CFR 1320.3(b).

Total estimated cost: $5,431,638 (per year), which includes $910,733 annualized capital or operation & maintenance costs.

Changes in the Estimates: This ICR combines the requirements from the existing regulations and the 2012 amendment, which are EPA ICR Numbers 1788.09 and 2440.02, respectively. The 2012 rule amended title 40, chapter I, part 63 subpart HH to include emission sources for which standards were not previously developed. This results in an increase in the number of affected major sources. The amendment did not affect the number of area sources.

Several changes were made to this ICR: (1) A correction in the estimated number of respondents based on recent data obtained during development of the 2012 rule amendment; (2) Inclusion of requirements associated with the 2012 amendment, including affirmative defense; and (3) Update to labor rates used in calculating burden estimates. The changes result in an overall decrease in the labor hours and costs and an increase in the total capital and O&M costs as currently identified in the OMB Inventory of Approved Burdens. The current OMB Inventory adds the burden from EPA ICR Numbers 1788.09 and 2440.02, double-counting the burden associated with several requirements. This ICR has been updated to remove any duplicates and to reflect the revised standard correctly.

John Moses,
Director, Collection Strategies Division.

[FR Doc. 2013-14483 Filed 6-18-13; 8:45 am]

BILLING CODE 6560-50-P